DEPARTMENT OF COMMERCE

National Oceanic and Atmospheric Administration

50 CFR Part 640

Spiny Lobster Fishery of the Gulf of Mexico and South Atlantic

CFR Correction

In title 50 of the Code of Federal Regulations, part 600 to end, revised as of October 1, 2000, part 640 is corrected by adding Figure 1 as follows:

PART 640—SPINY LOBSTER FISHERY OF THE GULF OF MEXICO AND SOUTH ATLANTIC

* * * * *

Figures—Part 640

[FR Doc. 01-55529 Filed 9-25-01; 8:45 am]

BILLING CODE 1505-01-D